DEPARTMENT OF THE INTERIOR

National Park Service

[NPS-WASO-NAGPRA-NPS0039887; PPWOCRADN0-PCU00RP14.R50000]

Notice of Inventory Completion: Bruce Museum, Inc., Greenwich, CT

AGENCY: National Park Service, Interior.

ACTION: Notice.

SUMMARY: In accordance with the Native American Graves Protection and Repatriation Act (NAGPRA), the Bruce Museum has completed an inventory of associated funerary objects and has determined that there is a cultural affiliation between the associated funerary objects and Indian Tribes or Native Hawaiian organizations in this notice.

DATES: Repatriation of the associated funerary objects in this notice may occur on or after May 12, 2025.

ADDRESSES: Kirsten J. Reinhardt, Bruce Museum, Inc., 1 Museum Drive, Greenwich, CT 06830, telephone (203) 413-6770, email kreinhardt@brucemuseum.org.

SUPPLEMENTARY INFORMATION: This notice is published as part of the National Park Service's administrative responsibilities under NAGPRA. The determinations in this notice are the sole responsibility of the Bruce Museum, and additional information on the determinations in this notice, including the results of consultation, can be found in its inventory or related records. The National Park Service is not responsible for the determinations in this notice.

Abstract of Information Available

The two associated funerary objects are two nodules of natural, unground, red/orange ochre. The two associated funerary objects were removed by an unknown person from Native American graves at Fort Ticonderoga, Essex County, NY before 1940 and donated to the Bruce in 1940 by Mr. Stirling Martin. Cultural Affiliation has been determined to be with the Mohican and/or Lenape-Munsee people as per the Stockbridge Munsee Community, Wisconsin. The location and temporal period of the graves is unknown. It is known that in 1757, approximately 8,000 French, Canadian, and Native Americans, including members of the Mohican Stockbridge Militia and Lenape soldiers, combined to fight the British at Fort Ticonderoga during the French and Indian War. According to THPO Bonney Hartley of the Stockbridge-Munsee Community, the location, Essex County, NY, is within the known territory of Mohican peoples. The Stockbridge Munsee Community, Wisconsin is a federally recognized Tribe of both Mohican and Munsee Lenape people. No treatment with hazardous material has been performed.

Cultural Affiliation

Based on the information available and the result of consultation, cultural affiliation is reasonably identified by the geographical location or acquisition history of the associated funerary objects described in this notice.

Determinations

The Bruce Museum has determined that:

• The two objects described in this notice are reasonably believed to have been placed intentionally with or near individual human remains at the time of death or later as part of the death rite or ceremony.

• There is a connection between the associated funerary objects described in this notice and the Stockbridge Munsee Community, Wisconsin.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the associated funerary objects described in this notice to a requestor may occur on or after May 12, 2025. If competing requests for repatriation are received, the Bruce Museum must determine the most appropriate requestor prior to repatriation. Requests for joint repatriation of the associated funerary objects are considered a single request and not competing requests. The Bruce Museum is responsible for sending a copy of this notice to the Indian Tribes and Native Hawaiian organizations identified in this notice.

Authority: Native American Graves Protection and Repatriation Act, 25 U.S.C. 3003, and the implementing regulations, 43 CFR 10.10.

Dated: April 1, 2025.
Melanie O'Brien,
Manager, National NAGPRA Program.

[FR Doc. 2025-06203 Filed 4-10-25; 8:45 am]

BILLING CODE 4312-52-P